DEPARTMENT OF THE TREASURY

Alcohol and Tobacco Tax and Trade Bureau

27 CFR Part 9

[Docket No. TTB-2021-0009; Notice No. 206]

RIN 1513-AC72

Proposed Establishment of the Gabilan Mountains Viticultural Area

AGENCY: Alcohol and Tobacco Tax and Trade Bureau, Treasury.

ACTION: Notice of proposed rulemaking.

SUMMARY: The Alcohol and Tobacco Tax and Trade Bureau (TTB) proposes to establish the approximately 98,000-acre “Gabilan Mountains” viticultural area in Monterey and San Benito Counties, California. The proposed viticultural area lies entirely within the established Central Coast viticultural area and would entirely encompass the established Mt. Harlan and Chalone viticultural areas. TTB designates viticultural areas to allow vintners to better describe the origin of their wines and to allow consumers to better identify wines they may purchase. TTB invites comments on this proposed addition to its regulations.

DATES: TTB must receive comments on or before January 10, 2022.

ADDRESSES: You may electronically submit comments to TTB on this proposal, and view copies of this document, its supporting materials, and any comments TTB receives on it within Docket No. TTB-2021-0009 as posted on Regulations.gov (https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• If the proposed AVA is to be established within, or overlapping, an existing AVA, an explanation that both identifies the attributes of the proposed AVA that are consistent with the existing AVA and explains how the proposed AVA is sufficiently distinct from the existing AVA and therefore appropriate for separate recognition;

• If the petition proposes the establishment of a new AVA that is larger than, and encompasses, all of one or more existing AVAs, the evidence submitted under paragraph (a) of § 9.12 must include information addressing whether, and to what extent, the attributes of the proposed AVA are consistent with those of the existing AVA(s);

• The appropriate United States Geological Survey (USGS) map(s) showing the location of the proposed AVA, with the boundary of the proposed AVA clearly drawn thereon; and

• A detailed narrative description of the proposed AVA boundary based on USGS map markings.

Gabilan Mountains Petition

TTB received a petition from Parker Allen of Coastview Vineyards, proposing the establishment of the “Gabilan Mountains” AVA. The proposed Gabilan Mountains AVA is located within Monterey and San Benito Counties, California, and lies entirely within the established Central Coast AVA (27 CFR 9.75). The proposed AVA also entirely encompasses the established Mt. Harlan (27 CFR 9.131) and Chalone (27 CFR 9.24) AVAs. The proposed Gabilan Mountains AVA contains approximately 98,000 acres and has 6 commercially-producing vineyards covering a total of approximately 436 acres, as well as 4 wineries.

According to the petition, the distinguishing features of the proposed Gabilan Mountains AVA include its elevation, climate, and soils. Unless otherwise noted, all information and data pertaining to the proposed AVA contained in this document are from the petition for the proposed Gabilan Mountains AVA and its supporting exhibits.

Name Evidence

The proposed Gabilan Mountains AVA takes its name from the Gabilan Mountains range in which the proposed AVA is located. According to the petition, the name is derived from the Spanish word meaning “sparrow hawk,” a reference to the large number of red-tailed hawks that can be found in the region.¹ The petition notes that the word “Gabilan” is sometimes written as “Gavilan,” as shown on a 1904 Decision Card from the U.S. Board of Geographic Names.² However, the petitioner chose the spelling “Gabilan,” as that is the spelling found on current USGS maps and in the current USGS Geographic Names Information System.³

¹ Gudde, Erwin G., and William Bright. California Place Names: The Origin and Etymology of Current Geographical Names. Berkeley: University of California, 2010.

² See Exhibit 1 of the petition in Docket TTB-2021-0009 at https://www.regulations.gov.

³ See https://www.usgs.gov/core-science-systems/ngp/board-on-geographic-names/domestic-names.

The petition notes that the region of the proposed AVA is the setting for John Steinbeck's book East of Eden. Steinbeck wrote that “the Gabilan Mountains to the east of the valley were light gay mountains full of sun and loveliness * * *,” whereas the Santa Lucia Mountains to the west were “dark and brooding-unfriendly and dangerous.” The name has recently been used to describe the proposed AVA region in a real estate listing for a lot consisting of “approximately 165 acres in the Gabilan Mountains.” ⁴ A website for planning hiking holidays includes an entry for the “Trails of the Gabilan Mountains.” ⁵ The California State Parks website includes an entry for San Juan Bautista State Park, which includes the home of the military commander of an 1846 battle at Fremont Peak, which took place “in the nearby Gabilan Mountains.” ⁶ The petition notes that Fremont Peak is located within the proposed AVA. Finally, the petition states that a species of salamander found only within the proposed AVA and a few other nearby areas is known as the Gabilan Mountains Slender Salamander.⁷

⁴ https://www.realtor.com/realestateandhomes-detail/Gabilan-Range_Hollister_CA_95023_M2012427678.

⁵ www.mountainhikingholidays.com/pinnacles-national-park-hiking-tour.

⁶ www.parks.ca.gov/?page_id=22678.

⁷ californiaherps.com/salamanders/pages/b.gavilanensis.html.

Boundary Evidence

The proposed Gabilan Mountains AVA is comprised primarily of elevations above 1,500 feet. The northern boundary follows the 1,520-foot elevation contour and separates the proposed AVA from the lower elevations of the San Juan and Hollister Valleys, as well as from the Hollister Hills State Vehicular Recreational Area, which is not available for commercial viticulture. The eastern boundary follows a combination of the 1,520-foot elevation contour and the 1,600-foot elevation contour to separate the proposed AVA from the lower elevations of the adjacent, established San Benito (27 CFR 9.110) and Cienega Valley (27 CFR 9.38) AVAs. The southern boundary follows the boundary of the Pinnacles National Park boundary, to exclude that region of Federally-owned land that is not available for commercial viticulture. The western boundary generally follows the 1,520-foot elevation contour to separate the proposed AVA from the lower elevations of the Salinas Valley.

Distinguishing Features

The distinguishing features of the proposed Gabilan Mountains AVA are its elevation, climate, and soils.

Elevation

The proposed Gabilan Mountains AVA is located in a mountainous region with high elevations. According to the petition, the average elevation within the proposed AVA is 2,370 feet. By contrast, the surrounding regions all have lower average elevations, as demonstrated in the following table.

Table 1—Average Elevations
AVA (direction from proposed AVA) | Average elevation (in feet)
Proposed Gabilan Mountains | 2,370
Santa Clara Valley (north) ⁸ | 345
Lime Kiln Valley (east) ⁹ | 880
Cienega Valley (east) ¹⁰ | 1,105
Paicines (east) ¹¹ | 778
San Benito (east) ¹² | 881
Arroyo Seco (south) ¹³ | 331
Monterey (west) ¹⁴ | 480
Santa Lucia Highlands (west) ¹⁵ | 512

According to the petition, the proposed AVA's higher elevations place it above the heavy fog and marine layer. As a result, the proposed AVA has a cool air climate without the humidity from the fog and low-lying clouds. The petition claims that the lower humidity levels significantly reduce mildew pressure in the proposed AVA, which allows growers to use less fungicide and pursue more organic practices during the growing season.

⁸ 27 CFR 9.126.

⁹ 27 CFR 927.

¹⁰ 27 CFR 9.38.

¹¹ 27 CFR 9.39.

¹² 27 CFR 9.110.

¹³ 27 CFR 9.59.

¹⁴ 27 CFR 9.98.

¹⁵ 27 CFR 9.139.

Climate

The petition states that the climate of the proposed Gabilan Mountains AVA distinguishes it from the surrounding regions, particularly with respect to fog and rainfall. According to a 2016 study cited in the petition, the proposed AVA averages fewer than 2.5 hours of fog and low clouds per day each year during the months of June through September.¹⁶ By contrast, King City, to the south of the proposed AVA averages 7 hours, while Salinas, to the west, and Hollister, to the north, both average 9 hours. Each of these three locations sits at lower elevations than the proposed AVA and lies within valleys with airflow access to the Pacific Ocean. Paicines, which is to the east of the proposed AVA and sheltered from the marine air by the Hollister Hills, receives an average of only 2 hours of fog and low cloud cover daily.

¹⁶ Torregrosa, A., C. Combs, and J. Peters (2016), GOES-derived fog and low cloud indices for coastal north and central California ecological analyses, Earth and Space Science, 3, 46-67. See also Figure 2 of the petition in Docket TTB-2021-0009.

According to the petition, the lack of fog within the proposed Gabilan Mountains AVA has an effect on viticulture. Vines exposed to humid conditions, such as heavy fog or low cloud cover, have a high degree of mildew pressure. Additionally, heavy fog and low clouds act as a blanket, insulating the valley floor and raising the average temperature higher than temperatures in the elevations above the fog line. Finally, vines growing above the fog line have more access to direct sunlight, which provides photosynthesis to the vines for proper maturation.

Annual rainfall amounts within the proposed Gabilan Mountains are higher than in each of the surrounding regions.¹⁷ The proposed AVA receives an average of 17.24 inches of rainfall each year, with over 12 inches of that amount occurring during the late fall and winter months. Summers within the proposed AVA are extremely dry, averaging only 0.15 inch of rainfall annually. To the north of the proposed AVA in Hollister, annual rainfall amounts average 14.19 inches, while Paicines, to the east, receives 16.06 inches. To the south of the proposed AVA, King City receives an average of 12.06 inches of rain each year, and Salinas, to the west, receives an average of 12.83 inches. As within the proposed AVA, most of the rainfall in each of the surrounding regions occurs in the late fall and winter months.

¹⁷ All rainfall amounts derived from the National Climate Data Center's 1981-2010 Climate Normals, which were the most recent normals available.

According to the petition, rains during the fall and winter act to clear the soil and send nutrients and carbohydrates to the dormant roots. Extremely dry summers reduce the risk of moisture-associated diseases damaging the fruit and keeps the sugars and acids in balance closer to harvest.

Soils

The soils of the proposed Gabilan Mountains AVA are described in the petition as moderately coarse textured soils over a bedrock of granite. The soils are primarily from the Sheridan-Cieneba-Auberry association and are located on strongly sloping to very steep slope angles. The soils are also described as well-drained to excessively drained. Additionally, the soils are rich in calcium due to the high limestone content.

By contrast, the petition describes the soils in the valleys to the east and west of the proposed AVA as medium-textured soils on floodplains and alluvial plains. The petition included a San Benito County soil associations map, which includes the region to the east of the proposed AVA. The map shows that the soils in the eastern valleys outside of the proposed AVA are primarily of the San Benito-Gazos-Linne association. The petition did not include a soil association map of the valleys to the west of the proposed AVA in Monterey County, so TTB is unable to determine the primary soil association for that region. The petition also did not describe the soils to the north and south of the proposed AVA.

According to the petition, the quick-draining soils of the proposed AVA stress the vines during the growing season, resulting in more intense flavors and rich, hardy skins that are less associated with vines grown in less well-drained soils. Additionally, well-drained soils are at less of a risk for root decay than waterlogged soils. Finally, the high calcium content of the soil causes grapes to carry acid later into the growing season, allowing growers to let the grapes remain on the vines longer so that they reach physiological ripeness. As a result, vineyards in the proposed AVA are typically harvested two to three weeks later than the vineyards in the valleys of the surrounding regions.

Summary of Distinguishing Features

In summary, the elevation, climate, and soils of the proposed Gabilan Mountains AVA distinguish it from the surrounding regions. The following table compares and contrast the features of the proposed AVA to each of the surrounding regions.

Table 2—Comparison of Proposed AVA to Surrounding Regions
Region | Average elevation | Climate | Soils
Proposed AVA | 2,370 feet | 2.5 hours or less of fog and low cloud cover daily during summer months; 17.24 inches of rainfall annually | Moderately coarse textured soils over a bedrock of granite; well-drained to excessively drained; calcium-rich; Sheridan-Cieneba-Auberry association.
North | Lower | 9 hours of fog and low cloud cover daily during summer months; 14.19 inches of rainfall annually | Not provided.
East | Lower | 2 hours of fog and low cloud cover daily during summer months; 16.06 inches of rainfall annually | Medium-textured soils on floodplains and alluvial plains; San Benito-Gazos-Linne association.
South | Lower | 7 hours of fog and low cloud cover daily during summer months; 12.06 inches of rainfall annually | Not provided.
West | Lower | 9 hours of fog and low cloud cover daily during summer months; 12.83 inches of rainfall annually | Medium-textured soils on floodplains and alluvial plains.

Comparison of the Proposed Gabilan Mountains AVA to the Existing Central Coast AVA

T.D.-ATF-216, which published in the Federal Register on October 24, 1985 (50 FR 43128), established the Central Coast AVA. The AVA is a large, multi-county AVA that entirely encompasses the proposed Gabilan Mountains AVA. T.D. ATF-216 states that the Central Coast AVA is primarily distinguished by its marine-influenced climate. The AVA experiences maximum high temperatures, minimum low temperatures, marine fog incursion, relative humidity, length of growing season, and precipitation that are significantly different from conditions on the eastern (inland) side of the Coastal Ranges.

The proposed Gabilan Mountains AVA shares some of the general viticultural features of the Central Coast AVA. For example, like the Central Coast AVA, the proposed AVA has higher average annual rainfall amounts than the more inland valleys. However, due to its higher elevations, the proposed AVA experiences less marine fog incursion than many of the lower elevation and coastal regions of the Central Coast AVA. Additionally, due to its smaller size, the soils and elevations of the proposed AVA are less varied than those of the Central Coast AVA.

Comparison of the Proposed Gabilan Mountains AVA to the Existing Mt. Harlan AVA

The Mt. Harlan AVA is located in the northern portion of the proposed Gabilan Mountains AVA and was established by T.D. ATF-304, which was published in the Federal Register on November 15, 1990 (55 FR 47744). According to T.D. ATF-304, the Mt. Harlan AVA is characterized by elevations that are higher than those of the surrounding valleys and a lack of heavy marine fog. Soils within the AVA are high in limestone and are primarily from the Sheridan, Cieneba, and Auberry series.

Like the Mt. Harlan AVA, the proposed Gabilan Mountains AVA is a region of high, mountainous elevations surrounded by lower valleys. The proposed AVA also contains soils from the Sheridan, Cieneba, and Auberry series, and it also experiences less marine fog than most of the surrounding regions. However, due to its larger size, the proposed AVA has a broader range of elevations and a higher average elevation than the Mt. Harlan AVA. Additionally, the proposed AVA as a whole receives less rainfall annually than the Mt. Harlan AVA, due to the Mt. Harlan AVA's closer proximity to the Hollister and Cienega Valleys that funnel storms in from the Pacific Ocean.

Comparison of the Proposed Gabilan Mountains AVA to the Existing Chalone AVA

The Chalone AVA is located in the southern end of the proposed Gabilan Mountains AVA and was established by T.D. ATF-107, which was published in the Federal Register on June 14, 1982 (47 FR 25517). The Chalone AVA is located at higher elevations than the Salinas Valley, which is located to the west and south of the AVA, and therefore receives less fog and marine air than the valley. The soils are derived from granite and contain large amounts of limestone.

The proposed Gabilan Mountains AVA shares some of the major characteristics of the Chalone AVA. For example, both the established AVA and the proposed AVA have higher elevations than the surrounding valleys, and both have soils characterized by high limestone content. However, due to its larger size, the proposed Gabilan Mountains AVA has a wider range of elevations and a higher average elevation. Additionally, the proposed AVA as a whole receives more rainfall annually than the Chalone AVA, which is sheltered from the Pacific storms by the Santa Lucia Mountains.

TTB Determination

TTB concludes that the petition to establish the 98,000-acre Gabilan Mountains AVA merits consideration and public comment, as invited in this notice of proposed rulemaking.

Boundary Description

See the narrative description of the boundary of the petitioned-for AVA in the proposed regulatory text published at the end of this proposed rule.

Maps

The petitioner provided the required maps, and they are listed below in the proposed regulatory text. You may also view the proposed Gabilan Mountains AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name or other term identified as being viticulturally significant in part 9 of the TTB regulations, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Gabilan Mountains,” will be recognized as a name of viticultural significance under § 4.39(i)(3) of the TTB regulations (27 CFR 4.39(i)(3)). The text of the proposed regulation clarifies this point. Consequently, wine bottlers using the name “Gabilan Mountains” in a brand name, including a trademark, or in another label reference as to the origin of the wine, would have to ensure that the product is eligible to use the AVA name as an appellation of origin if this proposed rule is adopted as a final rule.

The approval of the proposed Gabilan Mountain AVA would not affect any existing AVA, and any bottlers using “Central Coast”, “Mt. Harlan,” or “Chalone” as an appellation of origin or in a brand name for wines made from grapes grown within those AVAs would not be affected by the establishment of this new AVA. The establishment of the proposed Gabilan Mountains AVA would allow vintners to use “Gabilan Mountains” and “Central Coast” as appellations of origin for wines made from grapes grown within the proposed Gabilan Mountains AVA if the wines meet the eligibility requirements for the appellation. Vintners whose wines meet the eligibility requirements for the Mt. Harlan AVA appellation would also be able to use “Gabilan Mountains,” along with or in place of “Mt. Harlan” or “Central Coast,” as an appellation of origin. Additionally, vintners whose wines meet the eligibility requirements for the Chalone AVA appellation would be able to use “Gabilan Mountains,” along with or in place of “Chalone” or “Central Coast,” as an appellation of origin.

Public Participation

Comments Invited

TTB invites comments from interested members of the public on whether it should establish the proposed AVA. TTB is also interested in receiving comments on the sufficiency and accuracy of the name, boundary, soils, and other required information submitted in support of the petition. In addition, given the proposed Gabilan Mountain AVA's location within the existing Central Coast AVA, TTB is interested in comments on whether the evidence submitted in the petition regarding the distinguishing features of the proposed AVA sufficiently differentiates it from the existing established AVA. TTB is also interested in comments on whether the geographic features of the proposed AVA are so distinguishable from the surrounding Central Coast AVA that the proposed Gabilan Mountains AVA should no longer be part of that AVA. Finally, TTB is interested in comments on whether the evidence sufficiently distinguishes the proposed AVA from the Mt. Harlan and Chalone AVAs located within it, and if either or both of those established AVAs are so distinct that they should not be a part of the larger proposed Gabilan Mountains AVA. Please provide any available specific information in support of your comments.

Because of the potential impact of the establishment of the proposed Gabilan Mountains AVA on wine labels that include the term “Gabilan Mountains” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following methods:

• Federal e-Rulemaking Portal: You may send comments via the online comment form posted with this notice within Docket No. TTB-2021-0009 on “Regulations.gov,” the Federal e-rulemaking portal, at https://www.regulations.gov. A direct link to that docket is available under Notice No. 206 on the TTB website at https://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

Please submit your comments by the closing date shown above in this notice. Your comments must reference Notice No. 206 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2021-0009 on the Federal e-rulemaking portal, Regulations.gov, at https://www.regulations.gov. A direct link to that docket is available on the TTB website at https://www.ttb.gov/wine/wine_rulemaking.shtml under Notice No. 206. You may also reach the relevant docket through the Regulations.gov search page at https://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also obtain copies of this proposed rule, all related petitions, maps and other supporting materials, and any electronic or mailed comments that TTB receives about this proposal at 20 cents per 8.5- × 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.to read as follows:

§ 9.__ Gabilan Mountains.

(a) Name. The name of the viticultural area described in this section is “Gabilan Mountains”. For purposes of part 4 of this chapter, “Gabilan Mountains” is a term of viticultural significance.

(b) Approved maps. The 10 United States Geological Survey (USGS) 1:24,000 scale topographic maps used to determine the boundary of the Gabilan Mountains viticultural area are titled:

(1) Hollister, CA, 2015;

(2) Mount Harlan, CA, 2015;

(3) Paicines, CA, 2015;

(4) Bickmore Canyon, CA, 2015;

(5) North Chalone Peak, CA, 2015;

(6) Soledad, CA, 2015;

(7) Mount Johnson, CA, 2015;

(8) Gonzales, CA, 2015;

(9) Natividad, CA, 2015; and

(10) San Juan Bautista, CA, 2015.

(c) Boundary. The Gabilan Mountains viticultural area is located in Monterey and San Benito Counties, California. The boundary of the Gabilan Mountains viticultural area is as described as follows:

(1) The beginning point is on the Hollister map at the intersection of the 1,520-foot elevation contour and an unnamed local road known locally as San Juan Canyon Road, southeast of the southernmost intersection of San Juan Canyon Road and Hillside Road. From the beginning point, proceed south, then southeasterly along the meandering 1,520-foot elevation contour to its intersection with a west-east flowing tributary of Bird Creek in Azalea Canyon; then

(2) Proceed southeast in a straight line, crossing Azalea Canyon and the main channel of Bird Creek, to the intersection of the 1,520-foot elevation contour an a southeast-northwest flowing tributary of Bird Creek; then

(3) Proceed generally southeasterly along the 1,520-foot elevation contour to its intersection with the eastern fork of an unnamed stream; then

(4) Proceed southeast in a straight line, crossing onto the Mount Harlan map, to the intersection of the 1,600-ft elevation contour and the northernmost unnamed creek; then

(5) Proceed generally south, then north along the 1,600-foot elevation contour to its intersection with a north-south trending tributary of Pescadero Creek; then

(6) Proceed south in a straight line, crossing Pescadero Creek, to the 1,520-foot elevation contour; then

(7) Proceed easterly along the meandering 1,520-foot elevation contour, crossing onto the Paicines map, and continuing along the 1,520-foot elevation contour as it meanders back and forth between the Mount Harlan map and the Paicines map, crossing Thompson Creek and continuing along the 1,520-foot elevation contour to its intersection with the eastern fork of an unnamed intermittent stream on the Paicines map north of Three Troughs Canyon; then

(8) Proceed southeast in a straight line to a fork in a tributary of Stone Creek east of Three Troughs Canyon; then

(9) Proceed east-southeast in a straight line, crossing onto the Bickmore Canyon map, to the intersection of an unnamed tributary of the San Benito River and the 1,520-foot elevation contour; then

(10) Proceed southeasterly along the 1,520-foot elevation contour to a point north of the confluence of Willow Creek and the South Fork of Willow Creek; then

(11) Proceed south in a straight line to the confluence of Willow Creek and the South Fork of Willow Creek; then

(12) Proceed east in a straight line to State Route 25; then

(13) Proceed southeasterly along State Route 25 to its intersection with the boundary of Pinnacles National Park; then

(14) Proceed south, then east, then generally south along the boundary of Pinnacles National Park, crossing onto the North Chalone Peak map, to the intersection of the National Park boundary and the 1,520-foot elevation contour northeast of Mann Canyon; then

(15) Proceed westerly along the 1,520-foot elevation contour to its intersection with CA-146; then

(16) Proceed southwest in a straight line, crossing onto the Soledad map, to the fork in an unnamed intermittent creek running parallel to Fabry Road; then

(17) Proceed northwest in a straight line, crossing over Stonewall Creek, the unnamed intermittent creek and its tributaries in Bryant Canyon, and a second unnamed intermittent creek, to the intersection of the 1,480-foot elevation contour and the northern terminus of a third unnamed intermittent stream; then

(18) Proceed north in a straight line to the 1,520-foot elevation contour; then

(19) Proceed southwest, then generally northwest along the meandering 1,520-foot elevation contour, crossing over the Mount Johnson map and back and forth between the Gonzales map and the Mount Johnson map to the intersection of the 1,520-foot elevation contour and an unnamed tributary of Chular Creek southeast of Espinosa Canyon on the Gonzales map; then

(20) Proceed northwest in a straight line, crossing Chular Creek and Espinosa Canyon, to the 1,520-foot elevation contour; then

(21) Proceed generally northwesterly, then northeasterly along the 1,520-foot elevation contour, crossing over the Mount Harlan, Natividad, San Juan Bautista, and Hollister maps, returning to the beginning point on the Hollister map.

Signed: August 4, 2021.
Mary G. Ryan,
Administrator.
Approved: September 24, 2021.
Timothy E. Skud,
Deputy Assistant Secretary (Tax, Trade, and Tariff Policy).

Editorial Note: This document was received for publication by the Office of the Federal Register on October 29, 2021.

[FR Doc. 2021-23976 Filed 11-9-21; 8:45 am]

BILLING CODE 4810-31-P